DEPARTMENT OF HEALTH AND HUMAN SERVICES

Substance Abuse and Mental Health Services Administration

Fiscal Year (FY) 2003 Funding Opportunities

AGENCY: Substance Abuse and Mental Health Services Administration, HHS.

ACTION: Notice of funding availability for Targeted Capacity Expansion Program for Substance Abuse Treatment and HIV/AIDS Services (Short Title: TCE/HIV).

SUMMARY: The Substance Abuse and Mental Health Services Administration (SAMHSA) Center for Substance Abuse Treatment (CSAT) announces the availability of FY 2003 funds for grants for the following activity. This notice is not a complete description of the activity; potential applicants must obtain a copy of the Request for Applications (RFA), including Part I, Targeted Capacity Expansion Program for Substance Abuse Treatment and HIV/AIDS Services (TI 03-008) (Short Title: TCE/HIV), and Part II, General Policies and Procedures Applicable to all SAMHSA Applications for Discretionary Grants and Cooperative Agreements, before preparing and submitting an application.

Activity | Application deadline | Est. funds FY 2003 | Est. No. of awards | Project period
Targeted Capacity Expansion Program for Substance Abuse Treatment and HIV/AIDS Services | May 23, 2003 | $16 million | 32 | 5 years.

The actual amount available for the award may vary depending on unanticipated program requirements and the number and quantity of applications received. FY 2003 funds for the activity discussed in this announcement were appropriated by the Congress under Public Law No. 108-7 This program is authorized under Section 509 of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: The National Clearinghouse for Alcohol and Drug Information (NCADI): (800) 789-2647 or (800-487-4889 TDD).

The PHS 5161-1 application form and the full text of the grant announcement are also available electronically via SAMHSA's World Wide Web Home Page: http://www.samhsa.gov (Click on “Grant Opportunities”).

When requesting an application kit, the applicant must specify the particular announcement number for which detailed information is desired. All information necessary to apply, including where to submit applications and application deadline instructions, are included in the application kit.

Purpose: The Substance Abuse and Mental Health Services Administration (SAMHSA), Center for Substance Abuse Treatment is accepting applications for Fiscal Year 2003 funds for grants to enhance and expand substance abuse treatment and/or outreach and pretreatment services in conjunction with HIV/AIDS services in African American, Latino/Hispanic, and/or other racial or ethnic communities highly affected by the twin epidemics of substance abuse and HIV/AIDS.

Eligibility: Funding will be directed to activities designed to deliver services specifically targeting racial and ethnic minority populations impacted by HIV/AIDS. Eligible entities may include: not-for-profit community-based organizations, national organizations, colleges and universities, clinics and hospitals, research institutions, State and local government agencies and tribal government and tribal/urban Indian entities and organizations. Faith-based organizations are eligible to apply.

There are three additional requirements:

1. The applicant agency and all direct providers of substance abuse treatment and HIV/AIDS services with linkages to the applicant agency must be in compliance with all local, city, county and State licensing and accreditation/certification requirements. The application must include licensure/accreditation/certification documentation (or a statement as to why the local/State government does not require licensure/accreditation/certification).

2. The applicant agency, if a direct provider of substance abuse treatment and HIV/AIDS services, and all direct providers of substance abuse treatment and HIV/AIDS services involved in the project must have been providing those services for a minimum of 2 years prior to the date of this application. The application must include a list of all substance abuse treatment and HIV/AIDS service providers and 2-year experience documentation.

This requirement is imposed because SAMHSA believes that adequate infrastructure and expertise are vital to effectively provide services and address emerging and unmet needs as quickly as possible.

3. Only applicants located in, or in close proximity to, and proposing to provide services in, one of the following are eligible to apply:

(a) Geographic areas within States with an annual AIDS case rate of, or greater than, 10 out of 100,000 people.

(b) MSAs with an annual AIDS case rate of, or greater than, 20 out of 100,000 among minority populations. (The rate of AIDS per 100,000 among minority populations was lowered to 20/100,000 from 25/100,000 based on falling AIDS rates due to improvements in treatment.) (See Appendix B of the full grant announcement for CDC annual case rates in States and MSAs.) Only applicants serving geographic areas within States and MSAs listed in the Appendix B of the full grant announcement can apply.

Applicants must specify the MSA or geographic area within a State where services are proposed.

SAMHSA/CSAT is limiting eligibility to applicants serving MSAs and States listed in Appendix B because in the absence of consistent reporting of HIV data by all jurisdictions, the best indicator of the magnitude of the epidemic is AIDS case rates derived from the CDC HIV/AIDS surveillance reports.

Availability of Funds: It is expected that approximately $16 million will be available for thirty-two (32) awards in FY 2003. Applicants proposing to enhance and/or expand substance abuse treatment may request not more than $500,000 in total costs (direct and indirect) per year. Applicants proposing only to enhance and/or expand outreach and pretreatment services may request not more than $400,000 in total costs (direct and indirect) per year. Applications with proposed budgets that exceed these amounts per year will be returned without review.

Period of Support: Awards may be requested for up to 5 years.

Criteria for Review and Funding: General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criterion. Additional award criteria specific to the programmatic activity may be included in the application guidance materials.

Catalog of Federal Domestic Assistance Number: 93.243.

Program Contact: For questions on program issues, contact: David C. Thompson, Division of Services Improvement, CSAT/SAMHSA, Rockwall II, 7th Floor, 5600 Fishers Lane, Rockville, MD 20857, (301) 443-6523, (e-mail) dthompso@samhsa.gov.

For questions on grants management issues, contact: Steve Hudak, Division of Grants Management, OPS/SAMHSA, Rockwall II, 6th floor, 5600 Fishers Lane, Rockville, MD 20857, (301) 443-9666, e-mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2003 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's website under “Assistance with Grant Applications”. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 13, 2003.
Richard Kopanda,
Executive Officer, SAMHSA.

[FR Doc. 03-6647 Filed 3-19-03; 8:45 am]

BILLING CODE 4162-20-P